DEPARTMENT OF COMMERCE

Foreign-Trade Zones Board

[Order No. 1947]

Reorganization and Expansion of Foreign-Trade Zone 134 under Alternative Site Framework; Chattanooga, Tennessee

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Chattanooga Chamber Foundation, grantee of Foreign-Trade Zone 134, submitted an application to the Board (FTZ Docket B-30-2014, docketed 03-26-2014) for authority to reorganize and expand under the ASF with a service area consisting of the Counties of Hamilton, Marion, Grundy, Warren, Sequatchie, Bledsoe, Rhea, Meigs, Bradley, Polk and McMinn, within and adjacent to the Chattanooga Customs and Border Protection port of entry, to remove temporary Site 15, and to categorize FTZ 134's existing Sites 1, 2, 3, 9, 10 and 11 as magnet sites and existing Sites 13, 14 and 16 as usage-driven sites.

Whereas, notice inviting public comment was given in the Federal Register (79 FR 18259-18260, 04-01-2014) and the application has been processed pursuant to the FTZ Act and the Board's regulations; and,

Whereas, the Board adopts the findings and recommendation of the examiner's report, and finds that the requirements of the FTZ Act and the Board's regulations are satisfied;

Now, therefore, the Board hereby orders:

The application to reorganize and expand FTZ 134 under the ASF is approved, subject to the FTZ Act and the Board's regulations, including Section 400.13, to the Board's standard 2,000-acre activation limit for the zone, to a five-year ASF sunset provision for magnet sites that would terminate authority for Sites 1, 2, 9, 10 and 11 if not activated by August 31, 2019, and to a three-year ASF sunset provision for usage-driven sites that would terminate authority for Sites 13, 14 and 16 if no foreign-status merchandise is admitted for a bona fide customs purpose by August 31, 2017.

Signed at Washington, DC, this 29th day of August 2014.
Paul Piquado,
Assistant Secretary of Commerce for Enforcement and Compliance, Alternate Chairman, Foreign-Trade Zones Board.

[FR Doc. 2014-21591 Filed 9-9-14; 8:45 am]

BILLING CODE 3510-DS-P